DEPARTMENT OF HEALTH AND HUMAN SERVICES

Indian Health Service

Request for Public Comment: 30-Day Proposed Information Collection: Office of Urban Indian Health Programs; Uniform Data System

AGENCY: Indian Health Service.

ACTION: Notice.

SUMMARY: In compliance with Section 3507 of the Paperwork Reduction Act of 1995, which requires 30 days for public comment on proposed information collection projects, the Indian Health Service (IHS) has submitted to the Office of Management and Budget (OMB) a request to review and approve the information collection listed below. This proposed information collection project was previously published in the Federal Register (74 FR 59544) on November 18, 2009 and allowed 60 days for public comment. No public comment was received in response to the notice. The purpose of this notice is to allow 30 days for public comment to be submitted directly to OMB.

Proposed Collection: Title: Office of Urban Indian Health Programs (OUIHP) Uniform Data System (UDS). Type of Information Collection Request: Initial request and four-year extension, for data collection to ensure compliance with legislative mandates and report to Congress and policymakers on program accomplishments. Form Number(s): There are currently no form numbers. Reporting formats are contained in the UDS Instruction Manual. Need and Use of Information Collection: The UDS contains the annual reporting requirements for the cluster of primary health care and case management/outreach and referral grantees funded by the IHS. The UDS includes reporting requirements for grantees of the OUIHP. The authorizing statute is Title V of Public Law 94-437, of the Indian Health Care Improvement Act, as amended. IHS will collect data in the UDS which will be used to ensure compliance with the legislative mandates and report to Congress and policymakers on program accomplishments. To meet these objectives, the OUIHP requires a core set of data collected annually that is appropriate for monitoring and evaluating performance and reporting on annual trends. Affected Public: Title V funded urban Indian health programs. Type of Respondents: Title V urban Indian health programs.

The table below provides: Types of data collection instruments, Number of respondents, Responses per respondent, Total annual responses, Average burden hours per response, and Total annual burden hours.

Data collection instrument(s) | Number of respondents | Responses per respondent | Total annual responses | Average burden hours per response* | Total annual burden hours
Universal Report | 34 | 1 | 34 | 8.00 (480 min) | 272
American Indian/Alaska Native Report | 34 | 1 | 34 | 8.00 (480 min) | 272
Total | 68 |  |  |  | 544
* For ease of understanding, burden hours are also provided in actual minutes.

There are no Capital Costs, Operating Costs, and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time to: Office of Management and Budget, Office of Regulatory Affairs, Attention: Desk Officer for IHS, New Executive Office Building, Room 10235, Washington, DC 20503.

Send Comments and Requests for Further Information: Send your written comments and requests for more information on the proposed collection or requests to obtain a copy of the data collection instrument(s) and instructions to: Mr. Hershel Gorham, Reports Clearance Officer, 801 Thompson Avenue, TMP, Suite 450, Rockville, MD 20852; call non-toll free (301) 443-4792; send via facsimile to (301) 443-9879; or send your e-mail requests, comments, and return address to: hershel.gorham@ihs.gov.

Comment Due Date: Your comments regarding this information collection are best assured of having full effect if received within 30 days of the date of this publication.

Dated: October 7, 2010.
Yvette Roubideaux,
Director, Indian Health Service.

[FR Doc. 2010-26429 Filed 10-21-10; 8:45 am]

BILLING CODE 4165-16-M